DEPARTMENT OF JUSTICE

Antitrust Division

Notice Pursuant to the National Cooperative Research and Production Act of 1993—Network Centric Operations Industry Consortium, Inc.

Notice is hereby given that, on November 19, 2004, pursuant to section 6(a) of the National Cooperative Research and Production Act of 1993, 15 U.S.C. 4301 et seq. (“the Act”), the Network Centric Operations Industry Consortium, Inc. has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: BAE Systems North America, Inc., Rockville, MD; The Boeing Company, Chicago, IL; CACI International, Inc., Arlington, VA; Carrillo Business Technologies, Inc., Westminister, CA; Cisco Systems, Inc., San Jose, CA; European Aeronautic Defense and Space Company EADS N.V., Schiphol-Rijk, The Netherlands; EMC Corporation, Hopkinton, MA; Ericsson Inc., Plano, TX; Factiva, New York, NY; General Dynamics, Falls Church, VA; Hewlett-Packard Company, Palo Alto, CA; Honeywell Defense and Space Electronic Systems, Columbia, MD; International Business Machines Corp, Armonk, NY; Innerwall, Inc., Colorado Springs, CO; L-3 Communications, New York, NY; Lockheed Martin Corporation, Bethesda, MD; Microsoft Corporation, Redmond, WA; Northrop Grumman Corporation, Los Angeles, CA; Oracle Corporation, Redwood Shores, CA; Raytheon Company, Waltham, MA; Rockwell Collins, Cedar Rapids, IA; Saab AB, Stockholm, Sweden; Science Applications International Corporation, San Diego, CA; Smith Aerospace, London, United Kingdom; Sun Microsystems, Inc., Santa Clara, CA; Themis Computer, Fremont, CA; Wakelight Technologies, Inc., Honolulu, HI; Bay Microsystems, Inc., Santa Clara, CA; Parametric Technology Corporation, Needham, MA; Sikorsky Aircraft, Stratford, CT; SPARTA, Inc., Arlington, VA; McDonald Bradley Inc., Herndon, VA; Aereovironment, Simi Valley, CA; FlightSafety International, Flushing, NY; Superlative Technologies, Inc. (dba SuperTEK), McLean, VA; and Real-Time Innovations, Inc., Sunnyvale, CA.

The general area of Network Centric Operations Industry Consortium, Inc.'s planned activity is to help accelerate the achievement of increased interoperability within and between all levels of government of the United States and its allies involved in joint, interagency and multination operations.

Dorothy B. Fountain,
Deputy Director of Operations, Antitrust Division.

[FR Doc. 05-1974 Filed 2-1-05; 8:45 am]

BILLING CODE 4410-11-M